DEPARTMENT OF THE INTERIOR

Bureau of Land Management

[CACA-42908]

Notice of Realty Action, Plumas County, CA; Noncompetitive Sale of Public Land

AGENCY: Bureau of Land Management, Interior.

ACTION: (CACA-42908) Notice of noncompetitive sale of public land in Plumas County, California.

SUMMARY: This notice affects public lands in Plumas County, California within T.23N., R.16E., Section 35, SWNW, M.D.M. These public lands will be offered for direct sale to the adjoining landowner, David Goss of the Pitchfork Cattle Company.

SUPPLEMENTARY INFORMATION: The 40± acre parcel being offered for disposal by direct sale to the adjoining landowner, David Goss, is pursuant to section 203 of the Federal Land Policy and Management Act of 1976 (43 U.S.C. 1713) and Title 43 Code Federal Regulations (CFR) 2711.3-3(a)(4). Lands described as T.23N., R.16.E., Section 35, SWNW, M.D.M., containing 40± acres more or less have been examined and found suitable for disposal in a 1984 Land Tenure Amendment. The land will not be offered for sale until at least 60 days after the date of this notice. The land described is hereby segregated from appropriation under the public land laws, including the mining laws, pending disposition of this action or 270 days from the date of publication of this notice, whichever occurs first. This land is not essential to any Bureau of Land Management program and no resource needed by the public will be lost through the transfer to private ownership. Conveyance is consistent with current the Land Tenure Amendment for Beckwourth Planning Unit which specifically identified the 40± acres as one of the parcels available for disposal. Notice of Availability of Planning Criteria was published in the Federal Register on February 9, 1984.

It has been determined that the subject parcel contains no known mineral values; therefore mineral interests may be conveyed simultaneously. Acceptance of the direct sale offer will qualify the purchaser to make application for conveyance of those mineral interests pursuant to the Federal Land Policy and Management Act (FLPMA) of 1976, Section 209 entitled Reservation and Conveyance of Minerals.

The patent, when issued, may contain certain reservations to the United States. Detailed information concerning these reservations, as well as specific conditions of sale, are available for review at the Eagle Lake Field Office, 2950 Riverside Drive, Susanville, CA 96130.

For a period of 45 days from the date of publication of this notice in the Federal Register, interested persons may submit comments regarding the proposed conveyance of the lands to the Field Manager at the above address. Any adverse comments will be reviewed by the State Director. In the absence of any adverse comments, the lands will be offered for sale to David Goss, Pitchfork Cattle Company.

Dated: June 5, 2001.
Linda D. Hansen,
Field Manager.

[FR Doc. 01-16219 Filed 6-27-01; 8:45 am]

BILLING CODE 4310-40-P